DEPARTMENT OF THE TREASURY

Internal Revenue Service

26 CFR Part 1

[REG-103146-08]

RIN 1545-BH69

Information Reporting Requirements Under Internal Revenue Code Section 6039; Correction

AGENCY: Internal Revenue Service (IRS), Treasury.

ACTION: Correction to notice of proposed rulemaking.

SUMMARY: This document contains corrections to a notice of proposed rulemaking (REG-103146-08) that was published in the Federal Register on Thursday, July 17, 2008 (73 FR 40999) relating to the return and information statement requirements under section 6039 of the Internal Revenue Code. These regulations reflect changes to section 6039 made by section 403 of the Tax Relief and Health Care Act of 2006. These proposed regulations affect corporations that issue statutory stock options and provide guidance to assist corporations in complying with the return and information statement requirements under section 6039.

FOR FURTHER INFORMATION CONTACT: Thomas Scholz, (202) 622-6030 (not a toll-free number).

SUPPLEMENTARY INFORMATION:

Background

The correction notice that is the subject of this document is under section 6039 of the Internal Revenue Code.

Need for Correction

As published, the notice of proposed rulemaking (REG-103146-08) contains errors that may prove to be misleading and are in need of clarification.

Correction of Publication

Accordingly, the publication of the notice of proposed rulemaking (REG-103146-08), which was the subject of FR Doc. E8-16177, is corrected as follows:

§ 1.6039-1 [Corrected]

1. On page 41002, column 2, § 1.6039-1(a)(1), line 5 of the column, the language “a return with respect each transfer made” is corrected to read “a return with respect to each transfer made”.

2. On page 41002, column 2, § 1.6039-1(b)(1), line 12, the language “calendar year, file a return with respect” is corrected to read “calendar year, file a return with respect to”.

3. On page 41002, column 2, § 1.6039-1(b)(1)(iv), the language “The fair market value of the stock on the date the option was granted;” is corrected to read “The fair market value of a share of stock on the date the option was granted;”.

4. On page 41002, column 3, § 1.6039-1(b)(1)(vii), the language “The fair market value of the stock on the date the option was exercised by the transferor;” is corrected to read “The fair market value of a share of stock on the date the option was exercised by the transferor;”.

§ 1.6039-2 [Corrected]

5. On page 41003, column 1, § 1.6039-2(b), line 4, the language “section 6039(a)(2). (1) Every corporation” is corrected to read “section 6039(b). (1) Every corporation”.

LaNita Van Dyke,
Chief, Publications and Regulations Branch, Legal Processing Division, Associate Chief Counsel (Procedure and Administration).

[FR Doc. E8-18784 Filed 8-13-08; 8:45 am]

BILLING CODE 4830-01-P